DEPARTMENT OF AGRICULTURE

Foreign Agricultural Service

Trade Adjustment Assistance for Farmers; Correction

AGENCY: Foreign Agricultural Service, USDA.

ACTION: Notice; correction.

SUMMARY: The Foreign Agricultural Service (FAS) published a document in the Federal Register of November 8, 2005, concerning the termination of petitions for trade adjustment assistance (TAA) that were filed by shrimp producers in Alabama, Arizona, Georgia, North Carolina, South Carolina, and Texas. The document did not contain information regarding all the states that were also terminated.

FOR FURTHER INFORMATION CONTACT: Jean-Louis Pajot, 202-720-2916.

Correction

In the Federal Register issue of November 8, 2005, in FR Doc. 05-22228, on page 67658, in the first column, correct the notice to read:

The Administrator, Foreign Agricultural Service (FAS), today terminated the certification of petitions for trade adjustment assistance (TAA) that was filed by shrimp producers in Alabama, Arizona, Georgia, Louisiana, Mississippi, North Carolina, South Carolina, and Texas. Shrimp producers in these states are no longer eligible for TAA benefits in fiscal year 2006.

Dated: November 21, 2005.
W. Kirk Miller,
Acting Administrator, Foreign Agricultural Service.

[FR Doc. E5-6747 Filed 12-1-05; 8:45 am]

BILLING CODE 3410-10-P